DEPARTMENT OF DEFENSE

Office of the Secretary

[Requisition Number: OSD-4-00002]

TRICARE; Calendar Year (CY) 2024 TRICARE Prime and TRICARE Select Out-of-Pocket Expenses

AGENCY: Office of the Secretary, Department of Defense.

ACTION: Notice of calendar year (CY) 2024 TRICARE Prime and TRICARE Select out-of-pocket expenses.

SUMMARY: This notice provides the CY 2024 TRICARE Prime and TRICARE Select out-of-pocket expenses.

DATES: The CY 2024 rates contained in this notice are effective January 1, 2024.

ADDRESSES: Defense Health Agency (DHA), TRICARE Health Plan, 7700 Arlington Boulevard, Suite 5101, Falls Church, Virginia 22042-5101.

FOR FURTHER INFORMATION CONTACT: Debra Fisher, telephone (703) 275-6224.

SUPPLEMENTARY INFORMATION: The National Defense Authorization Acts for Fiscal Years 2012 and 2017, and subsequent implementing regulations (e.g., § 199.17 of title 32 of the Code of Federal Regulations), established rates for TRICARE beneficiary out-of-pocket expenses and how they may be increased by the annual cost of living adjustment (COLA) percentage used to increase military retired pay or via budget neutrality rules. The CY 2024 retiree COLA increase is 3.2%.

The DHA has updated the CY 2024 out-of-pocket expenses as shown below:

BILLING CODE 6001-FR-P

The CY 2024 rates contained in this notice are effective January 1, 2024.

Dated: November 14, 2023.
Aaron T. Siegel,
Alternate OSD Federal Register Liaison Officer, Department of Defense.

[FR Doc. 2023-25553 Filed 11-17-23; 8:45 am]

BILLING CODE 6001-FR-C